DEPARTMENT OF TRANSPORTATION

Pipeline and Hazardous Materials Safety Administration

[Docket No. PHMSA-2023-0009]

Safety of Underground Natural Gas Storage Public Meeting

AGENCY: Pipeline and Hazardous Materials Safety Administration (PHMSA), DOT.

ACTION: Notice of a public meeting.

SUMMARY: This notice announces that PHMSA will host a two-day public meeting titled: “Safety of Underground Natural Gas Storage Public Meeting” in Broomfield, Colorado. PHMSA is hosting this meeting as part of its core mission to improve safety through better communications between PHMSA and its stakeholders. The purpose of the public meeting is to share important safety information with the public and industry, as well as gather input to inform future rulemaking decisions.

DATES: The public meeting and forum will be held May 16-17, 2023, from 8 a.m. to 4 p.m. (MT). Persons who wish to attend the meeting are asked to register no later than April 21, 2023. Individuals requiring accommodations, such as sign language interpretation or other aids, are asked to notify Kimberly Harrigan at K.Harrigan.ctr@dot.gov no later than April 21, 2023. For additional information, please see the ADDRESSES section of this notice.

ADDRESSES: The public meeting will be held at the Renaissance Boulder Flatiron Hotel, 500 Flatiron Boulevard, Broomfield, Colorado. The agenda and instructions on how to attend are available on the meeting website at https://primis.phmsa.dot.gov/meetingsMtgHome.mtg?mtg=164.

Presentations: Presentations from the public meeting will be available on the meeting website no later than five business days following the meeting.

Submitting Comments: Persons who wish to submit written comments may submit them to the docket in one of the following ways:

E-Gov Website: https://www.regulations.gov. This site allows the public to enter comments on any Federal Register notice issued by any agency. Follow the online instructions for submitting comments.

Fax: 1-202-493-2251—The Docket Management Facility, U.S. Department of Transportation will not issue confirmation notices for faxed comments.

Mail: Docket Management Facility, U.S. Department of Transportation, 1200 New Jersey Avenue SE, West Building: Room W12-140, Washington, DC 20590-0001

Hand Delivery: U.S. Department of Transportation, 1200 New Jersey Avenue SE, West Building: Room W12-140, Washington, DC 20590-0001, between 9:00 a.m. and 5:00 p.m. EST Monday through Friday, except federal holidays

Instructions: Identify Docket No. PHMSA-2023-0009 at the beginning of your comments. Internet users may submit comments at https://www.regulations.gov. If you submit your comments by mail or hand delivery, submit two copies. If you would like confirmation that PHMSA received your comments, please include a self-addressed stamped postcard that is labeled “Comments on PHMSA-2023-0009.” The docket clerk will date stamp the postcard prior to returning it to you via the U.S. mail.

Note: All comments received will be posted without edits to https://www.regulations.gov, including any personal information provided. Please see the Privacy Act heading for more information. Anyone can use the site to search all comments by the name of the submitting individual or, if the comment was submitted on behalf of an association, business, labor union, etc., the name of the signing individual. Therefore, please review the complete U.S. Department of Transportation Privacy Act Statement in the Federal Register (65 FR 19477) or the Privacy Notice at https://www.regulations.gov before submitting comments.

Privacy Act Statement: In accordance with 5 U.S.C. 553(c), DOT solicits comments from the public regarding certain general notices. DOT posts these comments without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 CFR 190.343, you may ask PHMSA to provide confidential treatment to information you give to the Agency by taking the following steps: (1) mark each page of the original document submission containing CBI as “Confidential;” (2) send PHMSA a copy of the original document with the CBI deleted along with the original, unaltered document; and (3) explain why the information you are submitting is CBI. Submissions containing CBI should be sent to Catherine Washabaugh, DOT, PHMSA, 1200 New Jersey Avenue SE, Washington, DC 20590-0001. Also, submissions containing CBI can be emailed to Catherine Washabaugh by encrypted email at Catherine.Washabaugh@dot.gov. Any CBI PHMSA receives that is not specifically designated as CBI will be placed in the public docket.

Docket: For access to the docket or to read background documents or comments, go to

https://www.regulations.gov. Follow the online instructions for accessing the dockets. Alternatively, this information is available by visiting DOT at 1200 New Jersey Avenue SE, West Building: Room W12-140, Washington, DC 20590-0001, between 9:00 a.m. and 5:00 p.m. ET Monday through Friday, except federal holidays.

FOR FURTHER INFORMATION CONTACT: Catherine Washabaugh by email at Catherine.Washabaugh@dot.gov., or phone (816) 728-7945.

SUPPLEMENTARY INFORMATION:

I. Background

The underground natural gas storage regulations have been in place for five years. Operators are now experienced in operating under these regulations. The meeting will bring federal and state regulators, emergency responders, industry, underground natural gas storage operators, and interested members of the public together to participate in understanding, enhancing, and shaping the future of underground natural gas storage safety. The meeting will provide a forum for discussion of multiple topics related to underground natural gas storage including: regulatory review, inspection processes, frequently asked question, jurisdictional coverage, incorporation by reference of American Petroleum Institute's Recommended Practices 1170 and 1171, general enforcement processes, common operator challenges, well annulus monitoring and exceedances, surface and subsurface safety valves, best practices, and lessons learned from incidents.

PHMSA's mission is to protect people and the environment by advancing the safe transportation of energy products and other hazardous materials that are essential to our daily lives. Part of this mission includes preventing the release of natural gas, which releases methane into the atmosphere. PHMSA is pursuing the DOT Strategic Goals of Safety, Economic Strength and Global Competitiveness, Equity, Climate & Sustainability, Transformation, and Organizational Excellence in effort to profile these goals during the public meeting.

Public Participation

The meeting will be open to the public. Members of the public who wish to attend are requested to register on the meeting website and include their names and organization affiliation (see ADDRESSES). PHMSA is committed to providing all participants with equal access to these meetings.

PHMSA is not always able to publish a notice in the Federal Register quickly enough to provide timely notification regarding last minute changes that impact a previously announced meeting. Therefore, individuals should check the meeting website listed in the ADDRESSES section of this notice regarding any possible changes.

Issued in Washington, DC, on March 31, 2023, under authority delegated in 49 CFR 1.97.
Alan K. Mayberry,
Associate Administrator for Pipeline Safety.

[FR Doc. 2023-07072 Filed 4-4-23; 8:45 am]

BILLING CODE 4910-60-P